DEPARTMENT OF COMMERCE

National Oceanic and Atmospheric Administration

[RTID 0648-XC405]

Fisheries of the Exclusive Economic Zone Off Alaska; Groundfish of the Gulf of Alaska; Central Gulf of Alaska Rockfish Program

AGENCY: National Marine Fisheries Service (NMFS), National Oceanic and Atmospheric Administration (NOAA), Commerce.

ACTION: Notification of standard prices and fee percentage.

SUMMARY: NMFS publishes the standard ex-vessel prices and fee percentage for cost recovery under the Central Gulf of Alaska (GOA) Rockfish Program (Rockfish Program). This action is intended to provide participants in a rockfish cooperative with the standard prices and fee percentage for the 2022 fishing year, which was authorized from May 1 through November 15. The fee percentage is 2.53 percent. The fee payments are due from each rockfish cooperative on or before February 15, 2023.

DATES: Valid on: January 27, 2023.

FOR FURTHER INFORMATION CONTACT: Charmaine Weeks, 907-586-7105.

SUPPLEMENTARY INFORMATION:

Background

The rockfish fisheries are conducted in Federal waters near Kodiak, Alaska by trawl and longline vessels. Regulations implementing the Rockfish Program are set forth at 50 CFR part 679. Exclusive harvesting privileges are allocated as quota share under the Rockfish Program for rockfish primary and secondary species. Each year, NMFS issues rockfish primary and secondary species cooperative quota (CQ) to rockfish quota shareholders to authorize harvest of these species. The rockfish primary species are northern rockfish, Pacific Ocean perch, and dusky rockfish. The rockfish secondary species include Pacific cod, rougheye rockfish, shortraker rockfish, sablefish, and thornyhead rockfish. Rockfish cooperatives began fishing under the Rockfish Program in 2012.

The Rockfish Program is a limited access privilege program established under the provisions of section 303A of the Magnuson-Stevens Fishery Conservation and Management Act (Magnuson-Stevens Act). Sections 303A and 304(d) of the Magnuson-Stevens Act require NMFS to collect fees to recover the actual costs directly related to the management, data collection and analysis, and enforcement of any limited access privilege program. Therefore, NMFS is required to collect fees for the Rockfish Program under sections 303A and 304(d)(2) of the Magnuson-Stevens Act. Section 304(d)(2) of the Magnuson-Stevens Act also limits the cost recovery fee so that it may not exceed 3 percent of the ex-vessel value of the fish harvested under the Rockfish Program.

Standard Prices

NMFS calculates cost recovery fees based on standard ex-vessel value prices, rather than actual price data provided by each rockfish CQ holder. Use of standard ex-vessel prices is allowed under sections 303A and 304(d)(2) of the Magnuson-Stevens Act. NMFS generates a standard ex-vessel price for each rockfish primary and secondary species on a monthly basis to determine the average price paid per pound for all shoreside processors receiving rockfish primary and secondary species CQ. Rockfish processors that receive and purchase landings of rockfish CQ groundfish must submit, on an annual basis, a volume and value report for the period May 1 to November 15 (50 CFR 679.5(r)(10)(ii)).

Regulations at 50 CFR 679.85(b)(2) require the Regional Administrator to publish rockfish standard ex-vessel values during the first quarter of each calendar year. The standard prices are described in U.S. dollars per pound for rockfish primary and secondary species CQ landings made during the previous year.

Fee Percentage

NMFS assesses a fee on the standard ex-vessel value of rockfish primary species and rockfish secondary species CQ harvested by rockfish cooperatives in the Central GOA and waters adjacent to the Central GOA when rockfish primary species caught by a cooperative are deducted from the Federal total allowable catch. The rockfish entry level longline fishery and trawl vessels that opt out of joining a cooperative are not subject to cost recovery fees because those participants do not receive rockfish CQ. Specific details on the Rockfish Program's cost recovery provision may be found in the implementing regulations set forth at 50 CFR 679.85.

NMFS informs—by letter—each rockfish cooperative of the fee percentage applied to the previous year's landings and the total amount due. Fees are due on or before February 15 of each year. Failure to pay on time will result in the permit holder's rockfish quota share becoming non-transferable, and the person will be ineligible to receive any additional rockfish quota share by transfer. In addition, cooperative members will not receive any rockfish CQ the following year until full payment of the fee is received by NMFS.

NMFS calculates and publishes in the Federal Register the fee percentage in the first quarter of each year according to the factors and methods described in Federal regulations at 50 CFR 679.85(c)(2). NMFS determines the fee percentage that applies to landings made in the previous year by dividing the total Rockfish Program management, data collection and analysis, and enforcement costs (direct program costs) during the previous year by the total standard ex-vessel value of the rockfish primary species and rockfish secondary species for all rockfish CQ landings made during the previous year (fishery value). NMFS captures the direct program costs through an established accounting system that allows staff to track labor, travel, contracts, rent, and procurement. Fee collections in any given year may be less than or greater than the direct program costs and fishery value for that year, as the fee percentage is established by regulation in the first quarter of the calendar year based on the program costs and the fishery value of the previous calendar year.

Using the fee percentage formula described above, the estimated percentage of program costs to value for the 2022 calendar year is 2.53 percent of the standard ex-vessel value. Program costs for 2022 increased compared to 2021 costs; however, the fishery value increased approximately 18 percent resulting in a lower fee percentage. Similar to 2021, the majority of 2022 costs were a result of direct personnel and contract costs.

Table 1—Standard Ex-Vessel Prices by Species for the 2022 Rockfish Program Season in Kodiak, Alaska
Species | Month | Average price/lb.
Dusky Rockfish | May | 0.13
| June | 0.12
| July | 0.13
| Aug | 0.14
| September | 0.13
| October | 0.12
| November | 0.14
Northern Rockfish | May | 0.13
| June | 0.13
| July | 0.11
| Aug | 0.13
| September | 0.13
| October | 0.13
| November | 0.14
Pacific Cod | May | 0.45
| June | 0.40
| July | 0.41
| Aug | 0.35
| September | 0.41
| October | 0.39
| November | 0.43
Pacific Ocean Perch | May | 0.15
| June | 0.16
| July | 0.16
| Aug | 0.14
| September | 0.16
| October | 0.17
| November | 0.15
Rougheye Rockfish | May | 0.11
| June | 0.12
| July | 0.12
| Aug | 0.12
| September | 0.12
| October | 0.12
| November | 0.12
Sablefish | May | 1.42
| June | 1.39
| July | 1.35
| Aug | 1.35
| September | 1.35
| October | 1.19
| November | 1.35
Shortraker Rockfish | May | 0.20
| June | 0.14
| July | 0.16
| Aug | 0.16
| September | 0.16
| October | 0.16
| November | 0.16
Thornyhead Rockfish | May | 0.40
| June | 0.34
| July | 0.37
| Aug | 0.37
| September | 0.37
| October | 0.36
| November | 0.37

Authority: 16 U.S.C. 773 et seq.; 1801 et seq.; 3631 et seq.; Pub. L. 108-447; Pub. L. 111-281.

Dated: January 24, 2023.
Kelly Denit,
Director, Office of Sustainable Fisheries, National Marine Fisheries Service.

[FR Doc. 2023-01703 Filed 1-26-23; 8:45 am]

BILLING CODE 3510-22-P